Title 3—

The President

Proclamation 7882 of April 5, 2005

Pan American Day and Pan American Week, 2005

By the President of the United States of America

A Proclamation

Leaders across the Americas understand that the hope for peace in our world depends on the unity of free nations. Each year, the people of the United States observe Pan American Day and Pan American Week to honor our shared commitment to freedom, prosperity, and security. We are working with our partners in the Western Hemisphere to advance our common interests and values so that we can build a brighter future for our citizens.

The idea of regional solidarity and inter-American cooperation, first envisioned in 1826 by Simon Bolivar, became a reality in 1890 when the First International Conference of American States concluded its meetings in Washington, D.C. There, President Benjamin Harrison praised the efforts of the countries in attendance for their desire to work together as American States. Through the years, these efforts, shared values, and mutual respect have strengthened this partnership.

Across our hemisphere, social, economic, military, and political cooperation are widespread. Last year, trade officials of five Central American nations and the Dominican Republic signed the Central American-Dominican Republic Free Trade Agreement with the United States. I urge the Congress to ratify this agreement, which will eliminate tariffs and trade barriers and expand regional opportunities.

My Administration remains committed to the Inter-American Democratic Charter to advance democracy and defend freedom across our region. Our Nation's continued support of democratic institutions, constitutional processes, and basic liberties gives hope and strength to those struggling in our hemisphere and around the world to preserve the rule of law and their God-given rights.

The democratic nations of the Western Hemisphere believe in the rights and dignity of every person, and we believe that liberty is worth defending. In the spirit of Pan American cooperation, we will continue to work to strengthen ties among our nations and further democracy, peace, and prosperity.

NOW, THEREFORE, I, GEORGE W. BUSH, President of the United States of America, by virtue of the authority vested in me by the Constitution and laws of the United States, do hereby proclaim April 14, 2005, as Pan American Day and April 10 through April 16, 2005, as Pan American Week. I urge the Governors of the 50 States, the Governor of the Commonwealth of Puerto Rico, and the officials of other areas under the flag of the United States of America to honor these observances with appropriate ceremonies and activities.

IN WITNESS WHEREOF, I have hereunto set my hand this fifth day of April, in the year of our Lord two thousand five, and of the Independence of the United States of America the two hundred and twenty-ninth.

B

[FR Doc. 05-7139

Filed 4-6-05; 8:54 am]

Billing code 3195-01-P